DEPARTMENT OF LABOR

Employment and Training Administration (ETA)

Proposed Information Collection Request, Extension of Approved Collection With One Revision: “Petition for Trade Adjustment Assistance and Alternative Trade Adjustment Assistance, Business Confidential Data Request, Business Confidential Non-Production Questionnaire, and Business Confidential Customer Survey”

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

Currently, the Employment and Training Administration is soliciting comments concerning the proposed extension, with revisions, of data collections using the ETA Form 9042A, Petition for Trade Adjustment Assistance and Alternative Trade Adjustment Assistance (1205-0342) and its Spanish translation ETA 9042A-1 (1205-0342); ETA 9043a, Business Confidential Data Request (1205-0342); ETA 8562a, Business Confidential Customer Survey (1205-0342). There is only one revision: ETA 9118 Business Confidential Non Production Questionnaire (currently approved under OMB Control Number 1205-0447) will be consolidated with the other forms listed above into one reporting requirement under OMB control number 1205-0342.

A copy of the proposed information collection request (ICR) can be obtained by contacting the office listed below in the addressee section of this notice by accessing: http://www.doleta.gov/OMBCN/OMBControlNumber.cfm.

DATES: Written comments must be submitted to the office listed below on or before September 8, 2008.

ADDRESSES: Susan Worden, U.S. Department of Labor, Employment and Training Administration, Room C-5428, 200 Constitution Avenue, NW., Washington, DC 20210. Phone: 202-693-3517, Fax: 202-693-3584, E-mail: worden.susan@dol.gov.

SUPPLEMENTARY INFORMATION:

I. Background

Section 221(a) of Title II, Chapter 2 of the Trade Act of 1974, as amended by the Trade Act of 2002, authorizes the Secretary of Labor and the Governor of each state to accept petitions for certification of eligibility to apply for adjustment assistance. The petitions may be filed by a group of workers, their certified or recognized union or duly authorized representative, employers of such workers, one-stop operators or one-stop partners. ETA Form 9042A, Petition for Trade Adjustment Assistance and Alternative Trade Adjustment Assistance, and its Spanish translation, ETA Form 9042A-1, Solicitud De Asistencia Para Ajuste, establish a format that may be used for filing such petitions.

Sections 222, 223 and 249 of the Trade Act of 1974, as amended, require the Secretary of Labor to issue a determination for groups of workers as to their eligibility to apply for Trade Adjustment Assistance (TAA). After reviewing all of the information obtained for each petition for Trade Adjustment Assistance filed with the Department, a determination is issued as to whether the statutory criteria for certification are met. The information collected in ETA Form 9043a, Business Confidential Data Request, ETA Form 9118, Business Confidential Non Production Questionnaire, and ETA Form 8562a, Business Confidential Customer Survey, will be used by the Secretary to determine to what extent, if any, increased imports or shifts in production have impacted the petitioning worker group.

II. Review Focus

ETA is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension, with revision, of OMB approved information collection.

Agency: Employment and Training Administration.

Title: “Petition For Trade Adjustment Assistance and Alternative Trade Adjustment Assistance, Business Confidential Data Request, Business Confidential Non-Production Questionnaire, and Business Confidential Customer Survey: Investigative Data Collection Requirements for the Trade Act of 1974 as amended by the Trade Act of 2002.”

OMB Number: 1205-0342.

Affected Public: Individuals or Households, Businesses, State, Local or Tribal Governments.

Cite/reference | Responses | Total respondents | Average time per response | Total requested burden (hours)
ETA 9042A & ETA 9042A-1 | 2,200 | 2,200 | 25 min | 916
ETA 9043a | 2,200 | 1056 | 3.5 hours | 7,700
ETA 8562a | 8,800 | 8,800 | 1.78 hours | 15,664
ETA 9118 | 550 | 264 | 3.5 hours | 1,925
Totals | 13,750 | 12,320 |  | 26,205

Total Burden Cost (capital/startup): $0.

Total Burden Cost (operating/maintaining): $0.

Comments submitted in response to this Notice will be summarized for inclusion in the request for Office of Management and Budget approval of this information collection request and will become a matter of public record.

Dated: July 2, 2008.
Ralph Di Battista,
Deputy Administrator, Office of National Response, Employment and Training Administration.

[FR Doc. E8-15712 Filed 7-9-08; 8:45 am]

BILLING CODE 4510-FN-P